DEPARTMENT OF THE INTERIOR

National Park Service

[NPS-WASO-NAGPRA-19321; PPWOCRADN0-PCU00RP14.R50000]

Notice of Intent To Repatriate Cultural Items: Dallas Museum of Art, Dallas, TX

AGENCY: National Park Service, Interior.

ACTION: Notice.

SUMMARY: The Dallas Museum of Art, in consultation with the appropriate Indian tribes or Native Hawaiian organizations, has determined that the cultural items listed in this notice meet the definition of sacred objects and objects of cultural patrimony. Lineal descendants or representatives of any Indian tribe or Native Hawaiian organization not identified in this notice that wish to claim these cultural items should submit a written request to the Dallas Museum of Art. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Dallas Museum of Art at the address in this notice by December 17, 2015.

ADDRESSES: Carol Griffin, Registrar, Dallas Museum of Art, 1717 North Harwood Street, Dallas, TX 75201, telephone (214) 922-1327, email cgriffin@dma.org.

SUPPLEMENTARY INFORMATION: Notice is here given in accordance with the Native American Graves Protection and Repatriation Act (NAGPRA), 25 U.S.C. 3005, of the intent to repatriate cultural items under the control of the Dallas Museum of Art, Dallas, TX, that meet the definition of sacred objects and objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In 1988, 27 masks and mask parts and two wrist guards were acquired by the Dallas Museum of Art in Dallas, TX, through a local gallery in Dallas, TX. According to the gallery's owner, the masks, mask parts, and wrist guards were bought from a private Arizona collector who had purchased them from the son of a former head of the Hopi Badger Clan. These items were reported in the summaries in 1993 through compliance with NAGPRA. Following the summary, the number of parts associated with this accession was variously corrected and updated through identification and pairing. According to museum records, the mask, mask parts, and wrist guards have never been placed on exhibit; they have remained in storage since acquisition.

In 2009, the Dallas Museum of Art accepted by donation two dance wands, which had been on loan to the museum since 1984 by a Dallas collector. The dance wands had been on exhibit at the time of consultation in 1993 by representatives of the Hopi Tribe of Arizona. They were promptly placed in storage following the visit.

The 31 sacred objects hereby submitted in this notice for intent to repatriate include: 2 woman's society dance wands (a pair); 1 case mask of Kokopelli, hump-backed flute player; 1 case mask of the Laguna corn dancer; 1 half-mask; 23 accessories for case masks, 1 pair of wrist guards; and 2 dance caps.

In 1993, the Hopi Tribe of Arizona came to the museum to review the collection, identifying the respective masks parts. The Dallas Museum of Art was in correspondence with the Hopi Tribe of Arizona in 1997 and 1998 regarding the potential for treatment of the organic materials, for which the museum had no record of treatment for objects within the 1988 acquisition. The Dallas Museum of Art and Hopi Tribe of Arizona renewed correspondence about the masks and mask parts in 2014, which included at that time additional information regarding the dance wands. A request for repatriation of these 31 items was submitted by the Hopi Tribe of Arizona on December 23, 2014. The Dallas Museum of Art formally recognized the claim on March 19, 2015 with Board of Trustees approval.

Determination Made by the Dallas Museum of Art

Officials of the Dallas Museum of Art have determined that:

• Pursuant to 25 U.S.C. 3001(3)(C), the 31 cultural items described above are specific ceremonial objects needed by traditional Native American religious leaders for the practice of traditional Native American religions by their present-day adherents.

• Pursuant to 25 U.S.C. 3001(3)(D), the 31 cultural items described above have ongoing historical, traditional, or cultural importance central to the Native American group or culture itself, rather than property owned by an individual.

• Pursuant to 25 U.S.C. 3001(2), there is a relationship of shared group identity that can be reasonably traced between the sacred objects and the Hopi Tribe of Arizona.

Additional Requestors and Disposition

Lineal descendants or representatives of any Indian tribe or Native Hawaiian organization not identified in this notice that wish to claim these cultural items should submit a written request with information in support of the claim to: Carol Griffin, Registrar, Dallas Museum of Art, 1717 North Harwood Street, Dallas, Texas 75201, telephone (214) 922-1327, email cgriffin@dma.org by December 17, 2015. After that date, if no additional claimants have come forward, transfer of control of the sacred objects/objects of cultural patrimony to the Hopi Tribe of Arizona may proceed.

The Dallas Museum of Art is responsible for notifying the Hopi Tribe of Arizona that this notice has been published.

Dated: September 15, 2015.
Melanie O'Brien,
Manager, National NAGPRA Program.

[FR Doc. 2015-29360 Filed 11-16-15; 8:45 am]

BILLING CODE 4312-50-P